DEPARTMENT OF ENERGY

Federal Energy Regulatory Commission

Combined Notice of Filings #1

Take notice that the Commission received the following electric corporate filings:

Docket Numbers: EC19-10-000.

Applicants: Clean Energy Future—Lordstown, LLC, Perennial Lordstown, LLC.

Description: Supplemental Notice of Consummation and Informational Filing Regarding Additional Investor, et al. of Clean Energy Future—Lordstown, LLC, et al.

Filed Date: 3/26/19.

Accession Number: 20190326-5289.

Comments Due: 5 p.m. ET 4/16/19.

Take notice that the Commission received the following electric rate filings:

Docket Numbers: ER18-829-003.

Applicants: Wisconsin Electric Power Company.

Description: Compliance filing: Reactive Supply Service Settlement Compliance Filing to be effective 5/1/2018.

Filed Date: 3/27/19.

Accession Number: 20190327-5193.

Comments Due: 5 p.m. ET 4/17/19.

Docket Numbers: ER19-745-001.

Applicants: PJM Interconnection, L.L.C.

Description: Compliance filing: Compliance Filing pursuant to March 1, 2019 Order re: ODEC and NAEA Rock Springs to be effective 1/1/2019.

Filed Date: 3/27/19.

Accession Number: 20190327-5183.

Comments Due: 5 p.m. ET 4/17/19.

Docket Numbers: ER19-1454-000.

Applicants: Southern California Edison Company.

Description: § 205(d) Rate Filing: Letter Agreement Wildcat I Energy Storage, LLC to be effective 3/20/2019.

Filed Date: 3/27/19.

Accession Number: 20190327-5179.

Comments Due: 5 p.m. ET 4/17/19.

Docket Numbers: ER19-1455-000.

Applicants: Wisconsin Public Service Corporation.

Description: § 205(d) Rate Filing: TCJA Implementation Filing to be effective 1/1/2018.

Filed Date: 3/27/19.

Accession Number: 20190327-5222.

Comments Due: 5 p.m. ET 4/17/19.

Docket Numbers: ER19-1456-000.

Applicants: Midcontinent Independent System Operator, Inc.

Description: § 205(d) Rate Filing: 2019-03-28_SA 3293 Big Stone Sub Transformer Upgrade MPFCA (J488 J493 J526) to be effective 3/29/2019.

Filed Date: 3/28/19.

Accession Number: 20190328-5074.

Comments Due: 5 p.m. ET 4/18/19.

Docket Numbers: ER19-1457-000.

Applicants: Buckeye Power, Inc., PJM Interconnection, L.L.C.

Description: § 205(d) Rate Filing: Revised SA No. 4753—NITSA among PJM and Buckeye Power, Inc. to be effective 3/1/2019.

Filed Date: 3/28/19.

Accession Number: 20190328-5086.

Comments Due: 5 p.m. ET 4/18/19.

Docket Numbers: ER19-1458-000.

Applicants: Mississippi Power Company.

Description: § 205(d) Rate Filing: MRA 28 Filing to be effective 1/1/2019.

Filed Date: 3/28/19.

Accession Number: 20190328-5091.

Comments Due: 5 p.m. ET 4/18/19.

Docket Numbers: ER19-1459-000.

Applicants: Wisconsin Public Service Corporation.

Description: § 205(d) Rate Filing: Filing of Annual Formula Rate for PEB and PBOP Changes to be effective 4/1/2019.

Filed Date: 3/28/19.

Accession Number: 20190328-5094.

Comments Due: 5 p.m. ET 4/18/19.

Docket Numbers: ER19-1460-000.

Applicants: Southwest Power Pool, Inc.

Description: § 205(d) Rate Filing: 1313R11 Oklahoma Gas and Electric Company NITSA and NOA to be effective 3/1/2019.

Filed Date: 3/28/19.

Accession Number: 20190328-5184.

Comments Due: 5 p.m. ET 4/18/19.

Docket Numbers: ER19-1461-000.

Applicants: Greenlight Energy Inc.

Description: Baseline eTariff Filing: Market-Based Rate Tariff Application to be effective 4/1/2019.

Filed Date: 3/28/19.

Accession Number: 20190328-5185.

Comments Due: 5 p.m. ET 4/18/19.

Docket Numbers: ER19-1463-000.

Applicants: Upper Michigan Energy Resources Corporation.

Description: § 205(d) Rate Filing: Filing of Amendment to Agreement for Wholesale Distribution Service to be effective 4/1/2019.

Filed Date: 3/28/19.

Accession Number: 20190328-5229.

Comments Due: 5 p.m. ET 4/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 28, 2019.
Nathaniel J. Davis, Sr.,
Deputy Secretary.

[FR Doc. 2019-06462 Filed 4-2-19; 8:45 am]

BILLING CODE 6717-01-P